DEPARTMENT OF HEALTH AND HUMAN SERVICES

Centers for Medicare & Medicaid Services

[CMS Computer Match No. 2014-04; HHS Computer Match No. 1402]

Privacy Act of 1974

AGENCY: Centers for Medicare & Medicaid Services (CMS), Department of Health and Human Services (HHS).

ACTION: Notice of Computer Matching Program (CMP).

SUMMARY: In accordance with the requirements of the Privacy Act of 1974, as amended; the Improper Payments Elimination and Recovery Improvement Act of 2012, Public Law (Pub. L.) 112-248, 126 Stat. 2390 (31 U.S.C. 3321 (note)); and OMB Memorandum M-13-20 (Protecting Privacy while Reducing Improper Payments with the Do Not Pay Initiative), this notice announces the establishment of a CMP that CMS plans to conduct with the Bureau of the Fiscal Service (Fiscal Service), Department of Treasury.

DATES: Effective Dates: Comments are invited on all portions of this notice. Public comments are due 30 days after publication. The matching program will become effective no sooner than 40 days after the report of the matching program is sent to Office of Management and Budget (OMB) and Congress, or 30 days after publication in the Federal Register, whichever is later.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.—3:00 p.m., Eastern Time zone.

FOR FURTHER INFORMATION CONTACT: John Sofokles, Government Technical Lead, Systems Management Division (SMD), Data Analytics and Control Group (DACG), Center for Program Integrity (CPI), CMS, Mail Stop AR-18-50, 7500 Security Boulevard, Baltimore, MD 21244-1805, Office Phone: 410-786-6373, Email: John.Sofokles@cms.hhs.gov

SUPPLEMENTARY INFORMATION: The Computer Matching and Privacy Protection Act of 1988 (Pub. L. 101-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Celeste Dade-Vinson,
Health Insurance Specialist, Centers for Medicare & Medicaid Services.

CMS Computer Match No. 2014-04

HHS Computer Match No. 1402

NAME:

“Computer Matching Agreement between the Department of Health and Human Services, Centers for Medicare & Medicaid Services, and the Department of Treasury, Bureau of the Fiscal Service to Detect Instances of Programmatic Waste, Fraud, and Abuse”

SECURITY CLASSIFICATION:

Unclassified

PARTICIPATING AGENCIES:

Department of Health and Human Services (HHS), Centers for Medicare & Medicaid Services (CMS) and the Department of Treasury, Bureau of the Fiscal Service (Fiscal Service).

AUTHORITY FOR CONDUCTING MATCHING PROGRAM:

This Computer Matching Program (CMP) is executed to comply with the provisions of the Privacy Act of 1974 (5 U.S.C. 552a), as amended, the Improper Payments Elimination and Recovery Improvement Act of 2012, Public Law 112-248, 126 Stat. 2390 (31 U.S.C. 3321 (note)); OMB Memorandum M-13-20 (Protecting Privacy while Reducing Improper Payments with the Do Not Pay Initiative); the Office of Management and Budget (OMB) Circular A-130 entitled, Management of Federal Information Resources, at 61 FR 6428-6435 (February 20, 1996), and OMB guidelines pertaining to computer matching at 54 FR 25818 (June 19, 1989) and 56 FR 18599 (April 23, 1991); and the computer matching portions of Appendix I to OMB Circular No. A-130 as amended at 61 FR 6428, February 20, 1996;

PURPOSE (S) OF THE MATCHING PROGRAM:

The purpose of this matching program is to reduce improper payments by authorizing Fiscal Service to provide CMS, through the U.S. Department of the Treasury's Working System as defined by OMB Memorandum M-13-20 (Protecting Privacy while Reducing Improper Payments with the Do Not Pay Initiative), identifying information from Fiscal Service's SOR Treasury/Fiscal Service .023 about individuals and entities excluded from receiving federal payments, contract awards, and other benefits. The information resulting from this matching program will be provided to CMS for use in determining whether an individual or entity is eligible to receive federal payments, contract awards, or other benefits. The CMS Center for Program Integrity intends to use information resulting from this matching program in a variety of activities related to the enrollment of healthcare professionals, to check payments made to providers and physicians, to verify that providers submitting claims are not deceased, and to collect debts owed to federal or state governments.

Using a CMP for this purpose eliminates the need for each payment, procurement and benefit program to execute several Memoranda of Agreements with multiple federal agencies, provides access to up-to-date information, and avoids the need to manually compare files.

DESCRIPTION OF RECORDS TO BE USED IN THE MATCHING PROGRAM:

The matching program will be conducted with data maintained by CMS in the “Provider Enrollment, Chain, and Ownership System (PECOS),” System No. 09-70-0532, established at 66 FR 51961 (October 11, 2001). PECOS routine use number 2 will allow PECOS data to be disclosed to Fiscal Service to assist Fiscal Service in contributing to the accuracy of CMS Medicare benefit payments. PECOS routine use number 1 will allow match results data that PECOS obtains from Treasury's Working System to be disclosed to CMS contractors, consultants, and grantees assisting CMS with PECOS purposes.

Fiscal Service will provide CMS with information comprised of match results originating from the matching activities between CMS SOR data and Fiscal Service's Treasury/Fiscal Service .023, as published at 78 Federal Register (FR), 73923, December 9, 2013. Fiscal Service data will be used in matching activities and match results released to CMS via Treasury's Working System. Routine use A allows the Fiscal Service to disclose information to CMS in identifying, preventing, or recouping improper payments.

INCLUSIVE DATES OF THE MATCH:

The CMP shall become effective no sooner than 40 days after the report of the matching program is sent to OMB and Congress, or 30 days after publication in the Federal Register, whichever is later. The matching program shall be valid for a period of less than 3 years from the effective date and may be extended for not more than 3 years thereafter, if certain conditions are met.

[FR Doc. 2014-21240 Filed 9-5-14; 8:45 am]

BILLING CODE P